DEPARTMENT OF COMMERCE

Conference on International Trade Issues Facing U.S. Machinery Manufacturing Industries

AGENCY: Manufacturing and Services, International Trade Administration, Department of Commerce.

ACTION: Notice.

SUMMARY: On December 4, 2012 the Office of Transportation and Machinery will hold a one-day conference on bi-lateral and multi-lateral international trade issues impacting the U.S. machinery manufacturing industries, with emphasis on tariff and non-tariff barriers to trade and global market access.

DATES: Tuesday, December 4, 2012.

ADDRESSES: International Trade Administration, U.S. Department of Commerce, 14th Street and Constitution Avenue NW., Washington, DC 20230.

FOR FURTHER INFORMATION CONTACT: Forrest Nielsen, Machinery Team, Manufacturing and Services, International Trade Administration, U.S. Department of Commerce, 14th Street and Constitution Avenue NW., Washington, DC 20230; telephone (202) 482-5784, Email Forrest.Nielsen@trade.gov.

SUPPLEMENTARY INFORMATION: Machinery manufacturing is one of the largest and most competitive sectors of the American manufacturing economy. The United States is the world's third-largest supplier of capital equipment, exporting more than $160 billion in 2011.

The economic impact of machinery manufacturing extends throughout the American economy. Machinery industries provide essential and highly sophisticated technology for many other manufacturing and service industries. Process control and other automation technologies enable end-users to maximize the productivity of their equipment. Sales of many types of machinery are accompanied by a variety of high-value services, as well, including specialized architecture, engineering, and logistics. Machinery manufacturing industries employ more than one million American workers in well-compensated trades and professions.

The Office of Transportation and Machinery (OTM) has been working for several months to identify significant trade barriers facing U.S. machinery manufacturer exporters in foreign market destinations. OTM strives to provide senior U.S. Government policy-makers with well-informed policy analysis for use in expanding international markets across the broad range of U.S. machinery exports. OTM will hold a one-day conference to conduct a dialog and review with our private-sector stakeholders what we have learned and further refine our understanding of the market access challenges they face.

Dated: Tuesday, October 16, 2012.
Thomas Sobotta,
Acting Office Director—MAS Office of Transportation & Machinery.

[FR Doc. 2012-25930 Filed 10-19-12; 8:45 am]

BILLING CODE 3570-DR-P